DEPARTMENT OF THE INTERIOR

Bureau of Land Management

[LLNM910000 L18200000.XG0000]

Notice of Relocation/Change of Street Address for New Mexico State Office

AGENCY: Bureau of Land Management, Interior.

ACTION: Notice.

SUMMARY: The Bureau of Land Management, New Mexico State Office located at 1474 Rodeo Road, Santa Fe, New Mexico has relocated to 301 Dinosaur Trail, Santa Fe, New Mexico.

DATES: Effective Date: November 2, 2009.

SUPPLEMENTARY INFORMATION: The office at 1474 Rodeo Road remained open during the move which took place starting on October 26 through November 6, 2009. The mailing address remains the same (P.O. Box 27115, Santa Fe, New Mexico 87502-0115). The main office telephone number has changed to (505) 954-2000.

FOR FURTHER INFORMATION CONTACT: Rosemary Herrell, Branch Chief, Support Services, at (505) 438-7625, BLM New Mexico State Office, P.O. Box 27115, Santa Fe, New Mexico 87502-0115.

Linda S.C. Rundell,
State Director.

[FR Doc. 2010-4055 Filed 2-26-10; 8:45 am]

BILLING CODE 4310-FB-P